DEPARTMENT OF LABOR

Employment and Training Administration

[Funding Opportunity Number: SGA/DFA PY 11-05]

Notice of Funding Opportunity and Solicitation for Grant Application (SGA) for Workforce Innovation Fund Grants

AGENCY: Employment and Training Administration, Labor.

ACTION: Notice of Solicitation for Grant Applications (SGA).

SUMMARY: Through this notice, the Department of Labor's Employment and Training Administration (ETA) announces the availability of approximately $98.5 million in Workforce Innovation Fund grants authorized by the Full-Year Continuing Appropriations Act, 2011 (Pub. L. 112-10) to support innovative approaches to the design and delivery of employment and training services that generate long-term improvements in the performance of the public workforce system, both in terms of outcomes for job seeker and employer customers and cost-effectiveness. ETA expects to fund approximately 20 to 30 grants; individual grant amounts will range from $1 million to $12 million. The eligible applicants are (i) State Workforce Agencies; (ii) Local Workforce Investment Boards; (iii) entities eligible to apply for WIA Section 166 grants; (iv) consortia of State Workforce Agencies; (v) consortia of Local Workforce Investment Boards; and (vi) consortia of entities eligible to apply for WIA Section 166 grants. Grants made under the Workforce Innovation Fund will provide funds to (a) retool service delivery strategies and/or policy and administrative systems and processes to improve outcomes for workforce system customers and (b) evaluate the effectiveness of such activities.

The complete SGA and any subsequent SGA amendments, in connection with this solicitation is described in further detail on ETA's Web site at http://www.doleta.gov or on http://www.grants.gov. The Web sites provide application information, eligibility requirements, review and selection procedures and other program requirements governing this solicitation.

DATES: The closing date for receipt of applications is March 22, 2012.

FOR FURTHER INFORMATION CONTACT: Ariam Ferro, 200 Constitution Avenue NW., Room N4716, Washington, DC 20210; telephone: (202) 693-3968.

The Grant Officer for this SGA is Donna Kelly.

Signed at Washington, DC, this 20th day of December, 2011.
Eric D. Luetkenhaus,
Grant Officer, Employment and Training Administration.

[FR Doc. 2011-32995 Filed 12-22-11; 8:45 am]

BILLING CODE 4510-FN-P